NATIONAL AERONAUTICS AND SPACE ADMINISTRATION

[Notice 03-039]

NASA Advisory Council, Pioneer Revolutionary Technology Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Aerospace Technology Advisory Committee (ATAC), Pioneer Revolutionary Technology Subcommittee (PRTS).

DATES: Tuesday, May 20, 2003, 8 a.m. to 5 p.m.; and Wednesday, May 21, 2003, 8 a.m. to 5 p.m.

ADDRESSES: National Aeronautics and Space Administration, Ames Research Center, Building 258, Conference Room 221, Moffett Field, California 94035-1000.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—Quality Review Process

—General Description of Program

—Actions from ATAC and NASA's Response

—In-Depth Description of Computing, Information, and Communications Technology

—In-Depth Description of Engineering for Complex Systems

—General Description of Enabling Concepts and Technology

Attendees will be requested to sign a register and to comply with NASA security requirements, including the presentation of a valid picture ID, before receiving an access badge. Foreign Nationals attending this meeting will be required to provide the following information: full name; gender; date/place of birth; citizenship; visa/green card information (number, type, expiration date); passport information (number, country, expiration date); employer/affiliation information (name of institution, address, country, phone); title/position of attendee. To expedite admittance, attendees can provide identifying information in advance by contacting Ms. Pat A. Elson via e-mail at pelson@mail.arc.nasa.gov or by telephone at (650) 604-4498. Attendees will be escorted at all times.

It is imperative that the meeting be held on these dates to accommodate the scheduling priorities of the key participants.

June W. Edwards,
Advisory Committee Management Officer, National Aeronautics and Space Administration.

[FR Doc. 03-8819 Filed 4-9-03; 8:45 am]

BILLING CODE 7510-01-P